DEPARTMENT OF THE INTERIOR

Fish and Wildlife Service

Notice of Receipt of Application for Approval

The following applicant has applied for approval to conduct certain activities with birds that are protected in accordance with the Wild Bird Conservation Act of 1992. This notice is provided pursuant to Section 112(4) of the Wild Bird Conservation Act of 1992, 50 CFR 15.26(c).

Applicant: On August 10, 2000 we published a notice of receipt of application for approval (65 FR 49007) from the CITES Management Authority of Argentina, Direccion de Fauna y Flora Silvestre, Buenos Aires. The applicant wishes to establish a scientifically based sustainable management plan for the Blue-fronted amazon parrot (Amazona aestiva) in Argentina. The comment for this application is scheduled to end on September 10, 2000. The comment period is hereby extended until October 11, 2000. Comments previously submitted during the comment period need not be resubmitted as they will be incorporated into the public record and will be fully considered in the final determination on this application.

Written data or comments should be submitted to the Director, U.S. Fish and Wildlife Service, Division of Management Authority, 4401 North Fairfax Drive, Room 700, Arlington, Virginia 22203 and must be received by the Director by October 11, 2000.

Documents and other information submitted with this application are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: September 5, 2000.
Andrea Gaski,
Acting Chief, Branch of CITES Operations, Division of Management Authority.

[FR Doc. 00-23139 Filed 9-7-00; 8:45 am]

BILLING CODE 4310-55-U